DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2420; Associate Director for Global Targeting, tel.: 202-622-2420; Assistant Director for Licensing, tel.: 202-622-2480; Assistant Director for Regulatory Affairs, tel.: 202-622-4855; or Assistant Director for Sanctions Compliance & Evaluation, tel: 202-622-2490.

SUPPLEMENTARY INFORMATION:

Electronic Availability

The SDN List and additional information concerning OFAC sanctions programs are available on OFAC's website (www.treasury.gov/ofac).

Notice of OFAC Actions

On March 11, 2022, OFAC determined that the property and interests in property subject to U.S. jurisdiction of the following persons are blocked under the relevant sanctions authorities listed below.

Individuals

1. GAYEVOY, Aleksandr Andreyevich (a.k.a. GAEVOI, Aleksandr Andreevich; a.k.a. GAEVOY, Aleksandr), Vladivostok, Russia; DOB 16 Jun 1986; POB Artem, Primorkiy Kray, Russia; nationality Russia; Gender Male; Secondary sanctions risk: North Korea Sanctions Regulations, sections 510.201 and 510.210; Transactions Prohibited For Persons Owned or Controlled By U.S. Financial Institutions: North Korea Sanctions Regulations section 510.214 (individual) [DPRK2] (Linked To: APOLLON OOO).

Designated pursuant to Section 1(a)(v) of Executive Order 13687 of January 6, 2015, “Imposing Additional Sanctions With Respect To North Korea” (E.O. 13687) for having acted or purported to act for or on behalf of, directly or indirectly, Apollon OOO, a person whose property and interests in property are blocked pursuant to E.O. 13687.

2. CHASOVNIKOV, Aleksandr Aleksandrovich, Vladivostok, Russia; DOB 09 May 1969; nationality Russia; Gender Male; Secondary sanctions risk: North Korea Sanctions Regulations, sections 510.201 and 510.210; Transactions Prohibited For Persons Owned or Controlled By U.S. Financial Institutions: North Korea Sanctions Regulations section 510.214 (individual) [DPRK2].

Designated pursuant to Section 1(a)(iv) of E.O. 13687 for having materially assisted, sponsored, or provided financial, material, or technological support for, or goods or services to or in support of, the Government of North Korea.

Entities

1. APOLLON OOO (a.k.a. APOLLON LLC; a.k.a. “APOLLON”), Ul. Semenovskaya D., 8B, Kv. 28, Vladivostok 690091, Russia; Secondary sanctions risk: North Korea Sanctions Regulations, sections 510.201 and 510.210; Transactions Prohibited For Persons Owned or Controlled By U.S. Financial Institutions: North Korea Sanctions Regulations section 510.214; Organization Established Date 29 Jun 2015; Organization Type: Wholesale of food, beverages and tobacco; Tax ID No. 2540211930 (Russia); Registration Number 1152540004253 (Russia) [DPRK2] (Linked To: PAK, Kwang Hun).

Designated pursuant to Section 1(a)(iv) of E.O. 13687 for having materially assisted, sponsored, or provided financial, material, or technological support for, or goods or services to or in support of, Pak Kwang Hun, a person whose property and interests in property are blocked pursuant to E.O. 13687.

2. RK BRIZ, OOO (a.k.a. RK BREEZE; a.k.a. RK BRIZ; a.k.a. RK BRIZ LLC), Ul. Partizanskaya D. 2, Pom. 1, Putyatin 692815, Russia; Secondary sanctions risk: North Korea Sanctions Regulations, sections 510.201 and 510.210; Transactions Prohibited For Persons Owned or Controlled By U.S. Financial Institutions: North Korea Sanctions Regulations section 510.214; Organization Established Date 18 Jul 2016; Organization Type: Processing and preserving of fish, crustaceans and molluscs; Tax ID No. 2503033077 (Russia); Government Gazette Number 03561816 (Russia); Registration Number 1162503050654 (Russia) [DPRK2] (Linked To: CHASOVNIKOV, Aleksandr Aleksandrovich).

Designated pursuant to Section 1(a)(v) of E.O. 13687 for being owned or controlled by, or having acted or purported to act for or on behalf of, directly or indirectly, Aleksandr Aleksandrovich Chasovnikov, a person whose property and interests in property are blocked pursuant to E.O. 13687.

3. ZEEL-M CO., LTD. (a.k.a. ZIL-M LLC; a.k.a. “ZEELM”; a.k.a. “ZIL-M”), Ul. Russkaya D. 19, V, Vladivostok 690039, Russia; Secondary sanctions risk: North Korea Sanctions Regulations, sections 510.201 and 510.210; Transactions Prohibited For Persons Owned or Controlled By U.S. Financial Institutions: North Korea Sanctions Regulations section 510.214; Organization Established Date 08 Dec 1998; Organization Type: Sale of motor vehicles; Tax ID No. 2539039058 (Russia); Government Gazette Number 49852298 (Russia); Registration Number 1022502123995 (Russia) [DPRK2] (Linked To: CHASOVNIKOV, Aleksandr Aleksandrovich).

Designated pursuant to Section 1(a)(v) of E.O. 13687 for being owned or controlled by, or having acted or purported to act for or on behalf of, directly or indirectly, Aleksandr Aleksandrovich Chasovnikov, a person whose property and interests in property are blocked pursuant to E.O. 13687.

Authority: E.O. 13687, 80 FR 819, 3 CFR, 2015 Comp., p. 259.

Dated: March 10, 2022.
Bradley T. Smith,
Deputy Director, Office of Foreign Assets Control, U.S. Department of the Treasury.

[FR Doc. 2022-05706 Filed 3-17-22; 8:45 am]

BILLING CODE 4810-AL-P